DEPARTMENT OF AGRICULTURE

Agricultural Marketing Service

[Doc. No. AMS-TM-10-0106]

Notice of Request for Extension of a Currently Approved Information Collection

AGENCY: Agricultural Marketing Service, USDA.

ACTION: Notice and request for comments.

SUMMARY: In accordance with the Paperwork Reduction Act of 1995 (44 U.S.C. chapter 35), this notice announces the Agricultural Marketing Service's (AMS) intention to request approval from the Office of Management and Budget, for an extension of the currently approved information collection for OMB 0581-0229 Form TM-28, USDA Farmers Market Application. Copies of this one-time yearly application form to participate in the U.S. Department of Agriculture (USDA) Farmers Market at 12th Street and Independence Avenue, SW., Washington, DC may be obtained by calling the AMS Marketing Services Branch contact listed.

DATES: Comments received by February 11, 2011 will be considered.

Additional Information or Comments: Contact Errol R. Bragg, Director, Marketing Services Division, Transportation and Marketing Programs, Agricultural Marketing Service (AMS), USDA, Room 4004-South, 1400 Independence Avenue, SW., Washington, DC, 20250-0269; 202/720-8317, or fax 202/690-0031.

Comments should reference docket number AMS-TM-10-0106,and be sent to Mr. Errol Bragg at the above address or via the Internet at http://www.regulations.gov.

SUPPLEMENTARY INFORMATION: Title: USDA Farmers Market Application.

OMB Number: 0581-0229.

Expiration Date of Approval: April 30, 2011.

Type of Request: Extension of a currently approved information collection.

Abstract: The Agricultural Marketing Act of 1946 (7 U.S.C. 1621-1627) directs and authorizes the Secretary of Agriculture to conduct, assist, and foster research, investigation, and experimentation to determine the best methods of processing, preparation for market packaging, handling, transporting, distributing, and marketing agricultural products, 7 U.S.C. 1622(a). Moreover, 7 U.S.C. 1622(f) directs and authorizes the Secretary to conduct and cooperate in consumer education for more effective utilization and greater consumption of agricultural products. In addition, 7 U.S.C. 1622(n) authorizes the Secretary to conduct services and to perform activities that will facilitate the marketing and utilization of agricultural products through commercial channels.

On December 23, 2005, the AMS published a final rule in the Federal Register (70 FR 76129) to implement established regulations and procedures under 7 CFR part 170 for AMS to operate the USDA Farmers Market, specify vendor criteria and selection procedures, and define guidelines to be used for governing the USDA Farmers Market annually on 12th Street and Independence Ave., SW., Washington, DC. A one-time yearly submission information collection in a required application form was also established.

The information collection in Form TM-28, USDA Farmers Market Application is required by farms or businesses participating at the USDA Farmers Market. The information allows AMS the means of reviewing the type of products available for sale and selecting participants for the annual market season. The type of information within the application includes: (1) Certification the applicant is the owner or representative of the farm or business; (2) applicant contact information including name(s), address, phone number, and e-mail address; (3) farm or business location; (4) types of products grown; (5) business practices; and (6) insurance coverage.

Estimate of Burden: Public reporting burden for this collection of information is estimated to average 0.12 hours per response.

Respondents: Farmers and/or vendors completing the application to participate in the USDA Farmers Market.

Estimated Number of Respondents: 30.

Estimated Number of Responses per Respondent: 1.

Estimated Total Annual Burden on Respondents: 3.6 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

Comments may be sent to Errol R. Bragg at the address listed under section “ADDITIONAL INFORMATION OR COMMENTS” or to the Desk Officer for Agriculture, Office of Information and Regulatory Affairs, OMB, Washington, DC 20503. Comments must be received by February 11, 2011. All comments received by AMS will be available for public inspection during regular business hours, 8 a.m. to 4:30 p.m. Eastern Time, Monday through Friday, at the same address; and can be viewed via the Internet at http://www.regulations.gov.

All responses to this notice will be summarized and included in the request for OMB approval. All comments will become a matter of public record.

Dated: December 7, 2010.
David R. Shipman,
Acting Administrator, Agricultural Marketing Service.

[FR Doc. 2010-31203 Filed 12-10-10; 8:45 am]

BILLING CODE 3410-02-P